DEPARTMENT OF TRANSPORTATION

Federal Aviation Administration

14 CFR Part 39

[Docket No. FAA-2006-25097; Directorate Identifier 2005-SW-19-AD; Amendment 39-14762; AD 2006-19-05]

RIN 2120-AA64

Airworthiness Directives; Arrow Falcon Exporters, Inc. (Previously Utah State University); Firefly Aviation Helicopter Services (Previously Erickson Air-Crane Co.); California Department of Forestry; Garlick Helicopters, Inc.; Global Helicopter Technology, Inc.; Hagglund Helicopters, LLC (Previously Western International Aviation, Inc.); International Helicopters, Inc.; Precision Helicopters, LLC; Robinson Air Crane, Inc.; San Joaquin Helicopters (Previously Hawkins and Powers Aviation, Inc.) S.M.&T. Aircraft (Previously U.S. Helicopters, Inc., UNC Helicopter, Inc., Southern Aero Corporation, and Wilco Aviation); Smith Helicopters; Southern Helicopter, Inc.; Southwest Florida Aviation International, Inc. (Previously Jamie R. Hill and Southwest Florida Aviation); Tamarack Helicopters, Inc. (Previously Ranger Helicopter Services, Inc.); U.S. Helicopter, Inc. (Previously UNC Helicopter, Inc.); West Coast Fabrication; and Williams Helicopter Corporation (Previously Scott Paper Co.) Model HH-1K, TH-1F, TH-1L, UH-1A, UH-1B, UH-1E, UH-1F, UH-1H, UH-1L, and UH-1P Helicopters; and Southwest Florida Aviation Model SW204, SW204HP, SW205, and SW205A-1 Helicopters

AGENCY: Federal Aviation Administration, DOT.

ACTION: Final rule.

SUMMARY: This amendment adopts a new airworthiness directive (AD) for the specified restricted category type-certificated helicopters. The AD requires a review of the helicopter records to determine the Commercial and Government Entity (CAGE) code of the tail rotor (T/R) slider. If the T/R slider is FAA approved or has a certain legible CAGE code, this AD requires no further action. If you cannot determine whether the T/R slider is FAA approved and it has no stamped CAGE code, an illegible stamped CAGE code, or an affected CAGE code, the AD also requires, before further flight and at specified intervals, magnaflux inspecting the T/R slider for a crack. If a crack is found, the AD requires, before further flight, replacing the T/R slider with an airworthy T/R slider. The AD also requires replacing the T/R slider with an airworthy T/R slider on or before accumulating 1,000 hours time-in-service (TIS) or on or before 12 months, whichever occurs first. This amendment is prompted by two accidents attributed to sub-standard T/R sliders that failed during flight. The actions specified by this AD are intended to prevent failure of a T/R slider, loss of T/R control, and subsequent loss of control of the helicopter.

DATES: Effective October 16, 2006.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Kreg Voorhies, Aerospace Engineer, Denver Aircraft Certification Office (ANM-100D), 26805 E. 68th Ave., Room 214, Denver, Colorado 80249, telephone (303) 342-1092, fax (303) 342-1088.

SUPPLEMENTARY INFORMATION: A proposal to amend 14 CFR part 39 to include an AD for the specified restricted category type-certificated helicopters was published in the Federal Register on June 22, 2006 (71 FR 35840). That action proposed to require a review of the helicopter records to determine the CAGE code of the T/R slider. If the T/R slider is FAA approved or has a certain legible CAGE code, the AD proposed no further action. If you cannot determine whether the T/R slider is FAA approved or if it has an illegible CAGE code or CAGE Code 15716 or 26098, the AD proposed, before further flight and at specified intervals, magnaflux inspecting the T/R slider for a crack. If a crack is found, the AD proposed, before further flight, replacing the T/R slider with an airworthy T/R slider. The AD also proposed replacing the T/R slider that has an illegible CAGE code or Code 15716 or 26098 with an airworthy T/R slider on or before accumulating 1,000 hours TIS or on or before 12 months, whichever occurs first.

Interested persons have been afforded an opportunity to participate in the making of this amendment. No comments were received on the proposal or the FAA's determination of the cost to the public. The FAA has determined that air safety and the public interest require the adoption of the rule as proposed.

We estimate that this AD will affect 75 helicopters of U.S. registry and that it will take about:

• 1 work hour to review the helicopter records and 2 work hours to remove and replace the T/R slider for a total of 3 work hours per helicopter to determine the CAGE code for each helicopter in the fleet;

• 3 work hours for each magnaflux inspection with a total of 24 such inspections on each of 10 helicopters based on 600 hours TIS per year; and

• 2 work hours to replace the T/R slider with 10 helicopters needing the T/R slider replaced.

The average labor rate is $65 per work hour. Required parts will cost about $825 for each T/R slider. Based on these figures, we estimate the total cost impact of the AD on U.S. operators to be $70,975 ($195 per helicopter to determine the CAGE code and $5,635 per helicopter for repetitively inspecting and ultimately replacing the T/R slider on 10 helicopters).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-19-05 Arrow Falcon Exporters, Inc. (previously Utah State University); California Department of Forestry; Firefly Aviation Helicopter Services (previously Erickson Air-Crane Co.); Garlick Helicopters, Inc.; Global Helicopter Technology, Inc.; Hagglund Helicopters, LLC (previously Western International Aviation, Inc.); International Helicopters, Inc.; Precision Helicopters, LLC; Robinson Air Crane, Inc.; San Joaquin Helicopters (previously Hawkins and Powers Aviation, Inc.); S.M.&T. Aircraft (previously U.S. Helicopters, Inc., UNC Helicopter, Inc., Southern Aero Corporation, and Wilco Aviation); Smith Helicopters; Southern Helicopter, Inc.; Southwest Florida Aviation International, Inc. (previously Jamie R. Hill and Southwest Florida Aviation); Tamarack Helicopters, Inc. (previously Ranger Helicopter Services, Inc.); U.S. Helicopters, Inc. (previously UNC Helicopter, Inc.); West Coast Fabrication; and Williams Helicopter Corporation (previously Scott Paper Co.): Amendment 39-14762; Docket No. FAA-2006-25097; Directorate Identifier 2005-SW-19-AD.

Applicability: Model HH-1K, TH-1F, TH-1L, UH-1A, UH-1B, UH-1E, UH-1F, UH-1H, UH-1L, and UH-1P helicopters, and Southwest Florida Model SW204, SW204HP, SW205, and SW205A-1 helicopters, with tail rotor (T/R) slider, part number (P/N) 204-010-720-3 or P/N 204010720-3, installed, certificated in any category.

Compliance: Required as indicated.

To prevent failure of the T/R slider, which could result in loss of T/R control and subsequent loss of control of the helicopter, accomplish the following:

(a) Within 25 hours time-in-service (TIS), unless accomplished previously:

(1) Review the helicopter records to determine the Commercial and Government Entity (CAGE) code of the T/R slider. If necessary, remove the installed T/R slider to determine the CAGE code.

(2) If the T/R slider is an FAA approved part; for example, an original equipment manufacturer (OEM) part, and has a legible CAGE code other than Code 15716 or 26098; no further action is required.

(3) If you cannot determine whether the T/R slider is an FAA approved part and it contains no stamped CAGE code, an illegible stamped CAGE code, or is stamped with a CAGE code 15716 or 26098:

(i) Before further flight, unless accomplished previously, and thereafter at intervals not to exceed 25 hours TIS, magnaflux inspect the T/R slider for a crack.

(ii) If a crack is found, before further flight, replace the cracked T/R slider with an airworthy T/R slider.

Note 1: T/R sliders manufactured by Forest Scientific, Inc., were produced under a military contract and do not meet the OEM specifications. The machining process resulted in excess surface roughness. See Figure 1 of this AD.

Tail rotor sliders manufactured by Bell Helicopter Textron, Inc. (left) and Forest Scientific, Inc. (right). Note the rough finish of the Forest Scientific, Inc.-manufactured T/R slider compared to the one shown on the left.

Note 2: T/R sliders manufactured by Bell Helicopter Textron, Inc. have a vibro-etched P/N on them and do not have a CAGE code marking on the part.

(iii) On or before accumulating 1000 hours TIS or on or before 12 months, whichever occurs first, replace each T/R slider that has an illegible CAGE code or Code 15716 or 26098 with an FAA approved airworthy slider without a CAGE code or with a legible CAGE code other than 15716 or 26098. Any T/R slider removed from service based on the requirements of this paragraph is not eligible for installation on any helicopter.

(iv) Replacing the T/R slider with an FAA approved airworthy T/R slider without a CAGE code or with a legible CAGE code other than 15716 or 26098, constitutes terminating action for the requirements of this AD.

(b) To request a different method of compliance or a different compliance time for this AD, follow the procedures in 14 CFR 39.19. Contact the Manager, Denver Aircraft Certification Office (ANM-100D), ATTN: Kreg Voorhies, Aerospace Engineer, 26805 E. 68th Ave., Room 214, Denver, Colorado 80249, telephone (303) 342-1092, fax (303) 342-1088, for information about previously approved alternative methods of compliance.

(c) This amendment becomes effective on October 16, 2006.

Issued in Fort Worth, Texas, on September 5, 2006.
David A. Downey,
Manager, Rotorcraft Directorate, Aircraft Certification Service.

[FR Doc. 06-7577 Filed 9-8-06; 8:45 am]

BILLING CODE 4910-13-P